DEPARTMENT OF TRANSPORTATION

Federal Aviation Administration

14 CFR Part 39

[Docket No. 97-NM-235-AD; Amendment 39-12861; AD 2002-16-22]

RIN 2120-AA64

Airworthiness Directives; Boeing Model 727 Series Airplanes Modified in Accordance With Supplemental Type Certificate SA1767SO or SA1768SO

AGENCY: Federal Aviation Administration, DOT.

ACTION: Final rule; correction.

SUMMARY: This document corrects an error that appeared in airworthiness directive (AD) 2002-16-22 that was published in the Federal Register on August 15, 2002 (67 FR 53434). The error resulted in an incorrect reference to a supplemental type certificate. This AD is applicable to certain Boeing Model 727 series airplanes that have been converted from a passenger- to a cargo-carrying (“freighter”) configuration. This AD requires, among other actions, installation of a fail-safe hinge, redesigned main deck cargo door warning and power control systems, and 9g crash barrier.

DATES: Effective September 19, 2002.

FOR FURTHER INFORMATION CONTACT: M. Hassan Amani, Aerospace Engineer, Airframe Branch, ACE-117A, FAA, Atlanta Aircraft Certification Office, One Crown Center, 1895 Phoenix Boulevard, suite 450, Atlanta, Georgia 30349; telephone (770) 703-6080; fax (770) 703-6097.

SUPPLEMENTARY INFORMATION: Airworthiness Directive (AD) 2002-16-22, amendment 39-12861, applicable to certain Boeing Model 727 series airplanes that have been converted from a passenger- to a cargo-carrying (“freighter”) configuration, was published in the Federal Register on August 15, 2002 (67 FR 53434). That AD requires, among other actions, installation of a fail-safe hinge, redesigned main deck cargo door warning and power control systems, and 9g crash barrier.

As published, Note 5 of AD 2002-16-22 states, “Installation of National Aircraft Service, Inc. (NASI), Vent Door System STC ST01438CH, is an acceptable means of compliance with the requirements of paragraph (e) of this AD.” However, the correct supplemental type certificate (STC) is ST01270CH, as discussed in paragraph 13 of “Main Deck Cargo Door Systems” in the preamble of the final rule. Paragraph 13 also contains an error in that it refers to “Pemco ST01270CH” rather than “NASI ST01270CH.”

Since no other part of the regulatory information has been changed, the final rule is not being republished in the Federal Register

The effective date of this AD remains September 19, 2002.

§ 39.13 [Corrected]

On page 53446, in the second column, Note 5 of AD 2002-16-22 is corrected to read as follows:

* * * * *

Note 5: Installation of National Aircraft Service, Inc. (NASI), Vent Door System STC ST01270CH, is an acceptable means of compliance with the requirements of paragraph (e) of this AD.

* * * * *

Issued in Renton, Washington, on August 9, 2004.
Ali Bahrami,
Manager, Transport Airplane Directorate, Aircraft Certification Service.

[FR Doc. 04-18634 Filed 8-13-04; 8:45 am]

BILLING CODE 4910-13-P